DEPARTMENT OF LABOR

Employment and Training Administration

[TA-W-59,900]

Eaton Corporation Torque Control Products Division; Marshall, MI; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on August 25, 2006, applicable to workers of Eaton Corporation, Torque Control Products Division, Marshall, Michigan. The notice was published in the Federal Register on September 13, 2006 (71 FR 54095).

At the request of the State agency, the Department reviewed the certification for workers of the subject firm. The workers are engaged in the production of automotive differential gears and are not separately identifiable by product line.

New findings show that there was a previous certification, TA-W-54,067, issued on February 17, 2004, covering the identical worker group as the subject firm, who were engaged in employment related to the production of automotive differential gears. That certification expired on February 17, 2006. To avoid an overlap in worker group coverage, the certification is being amended to change the impact date from August 14, 2005 to February 18, 2006, for workers of the subject firm.

The amended notice applicable to TA-W-59,900 is hereby issued as follows:

All workers of Eaton Corporation, Torque Control Products Division, Marshall, Michigan, who became totally or partially separated from employment on or after February 18, 2006, through August 25, 2008, are eligible to apply for adjustment assistance under section 223 of the Trade Act of 1974 and are also eligible to apply for alternative trade adjustment assistance under Section 246 of the Trade Act of 1974.

Signed at Washington, DC, this 14th day of September 2006.
Richard Church,
Certifying Officer, Division of Trade Adjustment Assistance.

[FR Doc. E6-15745 Filed 9-25-06; 8:45 am]

BILLING CODE 4510-30-P